DEPARTMENT OF JUSTICE

Drug Enforcement Administration

Manufacturer of Controlled Substances; Notice of Registration

By Notice dated January 27, 2003, and published in the Federal Register on February 6, 2003 (68 FR 6181), AccuStandard, Inc., 125 Market Street, New Haven, Connecticut 06513, made application by letter to the Drug Enforcement Administration (DEA) for registration as a bulk manufacturer of the basic classes of controlled substances listed below:

Drug | Schedule
Cathinone (1235) | I
Methcathinone (1237) | I
Aminorex (1585) | I
Gamma hydroxybutyric acid (2010) | I
Methaqualone (2565) | I
Ibogaine (7260) | I
Lysergic acid diethylamide (7315) | I
Tetrahydrocannabinols (7370) | I
Mescaline (7381) | I
4-Bromo-2, 5-dimethoxyamphetamine (7391) | I
4-Bromo-2, 5-dimethoxyphenethylamine (7392) | I
4-Methyl-2, 5-dimethoxyamphetamine (7395) | I
2, 5-Dimethoxyamphetamine (7396) | I
3, 4-Methylenedioxyamphetamine (7400) | I
N-Hydroxy-3, 4-methylenedioxyamphetamine (7402) | I
3, 4-Methylenedioxy-N-ethylamphetamine (7404) | I
3, 4-Methylenedioxymethamphetamine (7405) | I
4-Methoxyamphetamine (7411) | I
Bufotenine (7433) | I
1-[1-(2-Thienyl) cyclohexyl]piperidine (7470) | I
Codeine-N-oxide (9053) | I
Dihydromorphine (9145) | I
Heroin (9200) | I
Morphine-N-oxide (9307) | I
Normorphine (9313) | I
Etonitazene (9624) | I
Amphetamine (1100) | II
Methamphetamine (1105) | II
Phenmetrazine (1631) | II
Methylphenidate (1724) | II
Amobarbital (2125) | II
Pentobarbital (2270) | II
Secobarbital (2315) | II
Glutethimide (2550) | II
Phencyclidine (7471) | II
Alphaprodine (9010) | II
Anileridine (9020) | II
Cocaine (9041) | II
Codeine (9050) | II
Diprenorphine (9058) | II
Dihydrocodeine (9120) | II
Hydromorphone (9150) | II
Diphenoxylate (9170) | II
Benzoylecgonine (9180) | II
Ecgonine (9180) | II
Hydrocodone (9193) | II
Levorphanol (9220) | II
Methadone (9250) | II
Morphine (9300) | II
Thebaine (9333) | II
Opium, raw (9600) | II
Opium tincture (9630) | II
Opium powdered (9639) | II
Levo-alphacetylmethadol (9648) | II
Oxymorphone (9652) | II
Alfentanil (9737) | II
Sufentanil (9740) | II
Fentanyl (9801) | II

The firm plans to manufacture small quantities of the listed controlled substances to make reference standards.

No comments or objections have been received. DEA has considered the factors in title 21, United States code, section 823(a) and determined that the registration of AccuStandard, Inc. to manufacture the listed controlled substances is consistent with the public interest at this time. DEA has investigated AccuStandard, Inc. to ensure that the company's registration is consistent with the public interest. This investigation has included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic classes of controlled substances listed above is granted

Dated: June 6, 2003.
Laura M. Nagel,
Deputy Assistant Administrator, Office of Diversion Control, Drug Enforcement Administration.

[FR Doc. 03-15203led 6ndash;16ndash;03; 8:45 am]

BILLING CODE 4410-09-M